DEPARTMENT OF LABOR

Employment and Training Administration

[TA-W-50,814]

Caterpillar Paving Products, Inc., A Subsidiary of Caterpillar of America Brooklyn Park, MI; Notice of Termination of Investigation

Pursuant to section 221 of the Trade Act of 1974, as amended, an investigation was initiated on February 6, 2003 in response to a petition filed on behalf of workers at Caterpillar Paving Products, Inc., a subsidiary of Caterpillar of America, Brooklyn Park, Minnesota.

The petitioning workers have requested that the petition be withdrawn. Consequently, further investigation would serve no purpose, and the investigation has been terminated.

Signed at Washington, DC, this 18th day of March, 2003.
Linda G. Poole,
Certifying Officer, Division of Trade Adjustment Assistance.

[FR Doc. 03-7906 Filed 4-1-03; 8:45 am]

BILLING CODE 4510-30-U